NATIONAL ARCHIVES AND RECORDS ADMINISTRATION

Records Schedules; Availability and Request for Comments

AGENCY: National Archives and Records Administration (NARA).

ACTION: Notice of availability of proposed records schedules; Request for Comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 8, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Animal Plant and Inspection Service (N1-463-10-2, 1 item, 1 temporary item). Master files associated with an electronic information system used to track financial transactions, such as fee processing and collection services.

2. Department of Agriculture, Forest Service (N1-95-09-2, 3 items, 3 temporary items). Master files associated with electronic information systems that support administrative functions that relate to programs to deal with fires and other disasters.

3. Department of the Air Force, Air Force Personnel Center (N1-AFU-10-1, 2 items, 2 temporary items). Case files and an electronic tracking system relating to claims by veterans for compensation for combat-related disability.

4. Department of the Army, Agency-wide (N1-AU-09-34, 1 item, 1 temporary item). Master files of an electronic information system that contains data concerning civilian employees and contractors deployed to a theater of operations, including identifying information, contact information, and duty assignment.

5. Department of Defense, National Geospatial-Intelligence Agency (N1-537-09-3, 14 items, 13 temporary items). Records of the Office of the Inspector General, including files relating to audits, inspections, evaluations, and investigations as well as submissions prepared for inclusion in Department of Defense reports to Congress and agency reports of accomplishments. Proposed for permanent retention are annual budget reports to Congress.

6. Department of Education, Office of the Secretary (N1-441-08-10, 2 items, 1 temporary item). Notes and drafts relating to speeches, meetings, briefing papers, and similar records of the Secretary, Deputy Secretary, and Under Secretary. Speeches, briefing papers, daily schedules, policy statements, and similar documents are proposed for permanent retention.

7. Department of Homeland Security, Office of Inspector General (N1-563-09-10, 13 items, 11 temporary items). Records of the Office of Inspector General (OIG), including such records as financial audit and inspection reports and related work papers, memorandums of agreement, correspondence files of OIG staff other than the Inspector General, performance measurement files, policy and procedures files, and quality review records. Proposed for permanent retention are performance audit and inspection reports and organizational charts approved by the Inspector General.

8. Department of Homeland Security, U.S. Citizenship and Immigration Services (N1-566-09-6, 3 items, 3 temporary items). Forms and other records used to evaluate the eligibility and suitability of U.S. citizens who seek to adopt a child abroad.

9. Department of the Interior, U.S. Geological Survey (N1-57-08-5, 48 items, 27 temporary items). Digital cartographic data, cartographic materials which do not support standard products, orthophotographs and maps, cartographic reference materials, geographic names committee records, facilitative records of the Federal Geographic Data Committee, and miscellaneous mapping records. Proposed for permanent retention are such records as master files of the Digital Geospatial Data Architecture system, National Elevation, Hydrography, Boundary, Structures, and Transportation datasets, digital orthophotographic imagery and orthophotographic products, Board of Geographic Names committee records and Geographic Names Information System master files, substantive records of the Federal Geographic Data Committee including standards and policy documents, master files and standard map products of the National Atlas of the United States of America®, and master files of The National Map.

10. Department of Justice, Environment and Natural Resources Division (N1-60-09-37, 7 items, 7 temporary items). Content and management records associated with the Division's internal Web site.

11. Department of Justice, Executive Office for U.S. Attorneys (N1-60-09-19, 4 items, 2 temporary items). U.S. Attorneys procedures, including administrative procedures and attorney pay plans. The United States Attorneys' Manual and Bulletins are proposed for permanent retention.

12. Department of Justice, Office of the Inspector General (N1-60-09-24, 5 items, 4 temporary items). Records of the Office of General Counsel, including litigation case files, informal advice and opinions, work files, and subject files. Proposed for permanent retention are formal legal opinions and memoranda.

13. Department of Justice, Federal Bureau of Investigation (N1-65-09-32, 2 items, 2 temporary items). Master files and audit files associated with an electronic information system used to track child prostitution investigations.

14. Department of Transportation, Federal Highway Administration (N1-406-09-17, 14 items, 13 temporary items). Administrative records of the Federal-Aid Divisions (field offices) including correspondence files, administrative files, audit case files, budget files, delegations of authority, and financial management files. Proposed for permanent retention are documentation and supporting papers pertaining to changes in the mission, functions, and organizational structure of the Divisions.

15. Department of Transportation, Federal Highway Administration (N1-406-09-18, 19 items, 19 temporary items). Civil rights records of the Federal-Aid Divisions (field offices) including administrative files, affirmative action plans, equal employment opportunity training plan files, contract compliance reviews, Title VI reviews and complaints, and internal discrimination complaints.

16. Department of Transportation, Federal Highway Administration (N1-406-09-21, 9 items, 9 temporary items). Legal services records of the Federal-Aid Divisions (field offices) including administrative files, civil rights files, contract files, suspension and disbarment files, legislation files, litigation files, and tort files.

17. Department of the Treasury, Internal Revenue Service (N1-58-09-61, 3 items, 3 temporary items). Master files, inputs, and system documentation associated with an electronic information system used to issue employee identification cards.

18. Department of the Treasury, Internal Revenue Service (N1-58-09-62, 4 items, 4 temporary items). Master files, outputs, and system documentation associated with an electronic information system used to identify qualified candidates for executive level positions in the agency.

19. Department of the Treasury, Internal Revenue Service (N1-58-09-63, 3 items, 3 temporary items). Master files, outputs, and system documentation associated with an electronic information system used to validate the addresses of taxpayers' spouses.

20. Department of the Treasury, Internal Revenue Service (N1-58-09-73, 3 items, 3 temporary items). Master files, outputs, and system documentation associated with an electronic information system used by agency agents to request the assistance of specialists in resolving taxpayer cases.

21. Department of the Treasury, Internal Revenue Service (N1-58-09-74, 3 items, 3 temporary items). Master files, outputs, and system documentation associated with an electronic information system used to track innocent spouse relief cases.

22. Department of the Treasury, Internal Revenue Service (N1-58-09-76, 3 items, 3 temporary items). Master files, outputs, and system documentation associated with an electronic information system used to create and distribute taxpayer settlement notices.

23. Agency for International Development, Bureau for Democracy, Conflict and Humanitarian Assistance (N1-286-09-4, 1 item, 1 temporary item). Master files of an electronic information system used to track deployment abroad of civilian personnel.

24. Export-Import Bank of the United States, Chief Information Office (N1-275-09-8, 1 item, 1 temporary item). Master files of an electronic information system used to facilitate processing of financial applications.

25. Institute of Museum and Library Services, Agency-wide (N1-288-09-1, 1 item, 1 temporary item). Master files of an electronic information system that contains data about projects funded by the agency.

26. Institute of Museum and Library Services, Agency-wide (N1-288-09-2, 2 items, 2 temporary items). Master files and outputs of an electronic information system that relates to the review of applications for grants and awards.

Dated: December 4, 2009.
Michael J. Kurtz,
Assistant Archivist for Records Services—Washington, DC.

[FR Doc. E9-29455 Filed 12-8-09; 8:45 am]

BILLING CODE 7515-01-P